DEPARTMENT OF THE INTERIOR

National Park Service

[NPS-WASO-NAGPRA-NPS0026885; PPWOCRADN0-PCU00RP14.R50000]

Notice of Inventory Completion: Marshall University, Huntington, WV

AGENCY: National Park Service, Interior.

ACTION: Notice.

SUMMARY: Marshall University has completed an inventory of human remains and associated funerary objects, in consultation with the appropriate Indian Tribes or Native Hawaiian organizations, and has determined that there is no cultural affiliation between the human remains and associated funerary objects and any present-day Indian Tribes or Native Hawaiian organizations. Representatives of any Indian Tribe or Native Hawaiian organization not identified in this notice that wish to request transfer of control of these human remains and associated funerary objects should submit a written request to Marshall University. If no additional requestors come forward, transfer of control of the human remains and associated funerary objects to the Indian Tribes or Native Hawaiian organizations stated in this notice may proceed.

DATES: Representatives of any Indian Tribe or Native Hawaiian organization not identified in this notice that wish to request transfer of control of these human remains and associated funerary objects should submit a written request with information in support of the request to Marshall University at the address in this notice by December 19, 2018.

ADDRESSES: Jendonnae Houdyschell, Associate General Counsel, Marshall University, One John Marshall Drive, Huntington, WV 25755-1060, telephone (304) 696-6704, email houdyschell2@marshall.edu.

SUPPLEMENTARY INFORMATION: Notice is here given in accordance with the Native American Graves Protection and Repatriation Act (NAGPRA), 25 U.S.C. 3003, of the completion of an inventory of human remains and associated funerary objects under the control of Marshall University, Huntington, WV. The human remains and associated funerary objects were removed from the Clover Site (46-CB-40), Cabell County, WV; Snidow Site (46-MC-1 and 46-MC-1/3), Mercer County, WV; Parkersburg, Wood County, WV; and 44-TZ-6, Tazewell County, VA.

This notice is published as part of the National Park Service's administrative responsibilities under NAGPRA, 25 U.S.C. 3003(d)(3) and 43 CFR 10.11(d). The determinations in this notice are the sole responsibility of the museum, institution, or Federal agency that has control of the Native American human remains and associated funerary objects. The National Park Service is not responsible for the determinations in this notice.

Consultation

A detailed assessment of the human remains was made by Marshall University professional staff in consultation with representatives of the Absentee-Shawnee Tribe of Indians of Oklahoma; Cheyenne River Sioux Tribe of the Cheyenne River Sioux Reservation, South Dakota; Delaware Tribe of Indians; Eastern Shawnee Tribe of Oklahoma; Kaw Nation, Oklahoma; Onondaga Nation; Saginaw Chippewa Indian Tribe of Michigan; Seneca Nation of Indians (previously listed as the Seneca Nation of New York); Seneca-Cayuga Nation (previously listed as the Seneca-Cayuga Tribe of Oklahoma); The Osage Nation (previously listed as the Osage Tribe); and Tonawanda Band of Seneca (previously listed as the Tonawanda Band of Seneca Indians of New York). The Haudenosaunee Standing Committee on Burial Rules and Regulations, Acting Chair (and Tonawanda Band of Seneca NAGPRA representative) also participated in the consultation on behalf of the other member Tribes, which are the Cayuga Nation; Onondaga Nation; Saint Regis Mohawk Tribe (previously listed as the St. Regis Band of Mohawk Indians of New York); Seneca Nation of Indians (previously listed as the Seneca Nation of New York); and the Tuscarora Nation.

An invitation to consult was extended to the Bad River Band of the Lake Superior Tribe of Chippewa Indians of the Bad River Reservation, Wisconsin; Bay Mills Indian Community, Michigan; Catawba Indian Nation (aka Catawba Tribe of South Carolina); Cayuga Nation; Cherokee Nation; Chickahominy Indian Tribe; Chickahominy Indian Tribe—Eastern Division; Chippewa Cree Indians of the Rocky Boy's Reservation, Montana (previously listed as the Chippewa-Cree Indians of the Rocky Boy's Reservation, Montana); Delaware Nation, Oklahoma; Delaware Tribe of Indians; Eastern Band of Cherokee Indians; Grand Traverse Band of Ottawa and Chippewa Indians, Michigan; Keweenaw Bay Indian Community, Michigan; Lac Courte Oreilles Band of Lake Superior Chippewa Indians of Wisconsin; Lac du Flambeau Band of Lake Superior Chippewa Indians of the Lac du Flambeau Reservation of Wisconsin; Lac Vieux Desert Band of Lake Superior Chippewa Indians of Michigan; Minnesota Chippewa Tribe, Minnesota (Six component reservations: Bois Forte Band (Nett Lake); Fond du Lac Band; Grand Portage Band; Leech Lake Band; Mille Lacs Band; White Earth Band); Monacan Indian Nation; Nansemond Indian Tribe; Omaha Tribe of Nebraska; Oneida Nation (previously listed as the Oneida Tribe of Indians of Wisconsin); Oneida Indian Nation (previously listed as the Oneida Nation of New York); Pamunkey Indian Tribe; Ponca Tribe of Indians of Oklahoma; Ponca Tribe of Nebraska; Rappahannock Tribe, Inc.; Red Cliff Band of Lake Superior Chippewa Indians of Wisconsin; Red Lake Band of Chippewa Indians, Minnesota; Saint Regis Mohawk Tribe (previously listed as the St. Regis Band of Mohawk Indians of New York); Sault Ste. Marie Tribe of Chippewa Indians, Michigan; Shawnee Tribe; Sokaogon Chippewa Community, Wisconsin; St. Croix Chippewa Indians of Wisconsin; Stockbridge Munsee Community, Wisconsin; The Quapaw Tribe of Indians; Tunica-Biloxi Indian Tribe; Turtle Mountain Band of Chippewa Indians of North Dakota; Tuscarora Nation; United Keetoowah Band of Cherokee Indians in Oklahoma; Upper Mattaponi Tribe; and the Wyandotte Nation. These Tribes either did not consult or engaged in limited communication.

Hereafter, all tribes listed in this section are referred to as “The Consulted and Notified Tribes.”

History and Description of the Remains

From 1984 through 1986, and again from 1988 through 1989, human remains representing, at minimum, six individuals were removed from the Clover Site (46-CB-40) in Cabell County, WV. The human remains and associated funerary objects were excavated by the Marshall University Archaeological Field School and brought to Marshall University for curation and research. At the time of the excavation, the land was privately owned, it is now owned by the United States. The human remains represent one female aged 12-15 years from Feature 2; one individual (sex indeterminate) aged 14-18 months from Feature 3; one female aged 19-20 years from Feature 4; one male aged 25-26 years from Feature 9; one individual (likely female) more than 25 years old from Feature 21; and one male aged 17-18 years from Feature 27. No known individuals were identified. The 53 associated funerary objects are: One antler flaker, two bone beads, one cannel coal claw pendant, nine lots ceramic sherds, one shell-tempered ceramic vessel, nine chert bifaces, one lump fired clay, one lot C-14 samples, one copper hair ornament, one lot ground stone, eight lots mixed materials, five lots soil samples, three lots faunal material, two lots shell, one mussel shell necklace, one piece worked hematite, two pieces worked shell, one sandstone whetstone, two shell beads, and one stone axe.

In the mid-1970s, and again in 1988 and 1989, human remains representing, at minimum, 26 individuals were removed from the Snidow Site (46-MC-1) and an adjacent site (46-MC-1/3) in Mercer County, WV. In the 1970s, the Sidnow Site was excavated by a member of the West Virginia Archaeological Society. The finds were brought to Marshall University for study and were later donated to Marshall University. In 1988 and 1989, the Snidow Site was excavated by the Marshall University Archaeological Field School. The human remains were brought to Marshall University for curation and research. On an unknown date, Marshall University sent the human remains belonging to one individual that were removed from Feature 213 at the Snidow Site and the human remains belonging to three individuals that were removed from Feature 596 for analysis. They were never returned, and have not been located. A single bone belonging to one of the individuals removed from Feature 596 has been located at Marshall University. The human remains from 46-MC-1 represent one male, aged 40-45 years from Burial 2A (Feature 596); one juvenile of indeterminate sex from Burial 2 (Feature 35); one individual of indeterminate sex, aged 6-9 months, from Burial 3A (Feature 36); one individual of indeterminate sex, aged 3-6 years, from Burial 3B (Feature 36); one individual of indeterminate sex, aged 13-16 years, from Burial 3C (Feature 36); one newborn of indeterminate sex from Burial 4 (Feature 41); one infant of indeterminate sex from Burial 5 (Feature 38); one infant of indeterminate sex from Burial 6 (Feature 37); one juvenile of indeterminate sex from Burial 7 (Feature 40); one individual of indeterminate sex, aged 4-6 months from Burial 8A (Feature 42); one individual of indeterminate sex, aged 3-4 years from Burial 8B (Feature 42); one individual of indeterminate sex, aged 4-6 years from Burial 8C (Feature 42); one individual of indeterminate sex, aged 3-4 years from Burial 8D (Feature 42); one juvenile of indeterminate sex from Burial 9 (Feature 43); one individual of indeterminate sex, aged 5-6 years from Burial 10A (Feature 40); one individual of indeterminate sex, aged 18-24 months from Burial 10B (Feature 40); one juvenile of indeterminate sex from Burial 11A (Feature 45); one adult of indeterminate sex from Burial 11B (Feature 45); one infant of indeterminate sex from Burial 12 (Feature 48); one infant of indeterminate sex from Burial 13 (Feature 49); and one infant of indeterminate sex from Burial 14 (Feature 53). The human remains from 46-MC-1/3 represent one infant of indeterminate sex from Burial 1 (Feature 19); one adult of indeterminate sex from Burial 2 (Feature 8); one infant of indeterminate sex from Burial 3 (Feature 30); one adult (possibly female) from Burial 4 (Feature 28); and one individual of indeterminate sex and age from Burial 6 (C2). No known individuals were identified. The 54 funerary objects are two lots bone beads, one lot C-14 samples, five lots ceramics, two lots charcoal, one lot clay, 12 lots faunal material, three lots flotation samples, four lots lithics, eight lots mixed materials, seven lots shell, six lots shell beads, and three lots soil samples.

On an unknown date, human remains representing, at minimum, one individual are believed to have been removed from Parkersburg, on the Ohio River, in Wood County, WV. In the 1980s, a display case containing these human remains and unrelated cultural items was donated to the Marshall University by the Huntington Museum of Art. The human remains represent one male aged 24-27. No known individuals were identified. No associated funerary objects are present.

Sometime prior to 1996, human remains representing, at minimum, one individual were removed from the Hogue Site (44-TZ-6) in Tazewell County, VA. The human remains were found in an archeology collection that was donated to Marshall University by a vocational archeologist accessioned by the University in 1996. The human remains are from Burial 32 (Feature 212), and are of indeterminate sex and age. No known individuals were identified. No associated funerary objects are present.

Determinations Made by the Marshall University

Officials of Marshall University have determined that:

• Pursuant to 25 U.S.C. 3001(9), the human remains described in this notice are Native American based on archeological context (Clover and Snidow Sites); the surface wear and coloration of the bone, provenience, and the similarity of the human remains to those from the Clover site, a Late Prehistoric site (Parkersburg site); and the preservation of the bones (Site 44-TZ-6).

• Pursuant to 25 U.S.C. 3001(9), the human remains described in this notice represent the physical remains of a minimum of 34 individuals of Native American ancestry.

• Pursuant to 25 U.S.C. 3001(3)(A), the 107 objects described in this notice are reasonably believed to have been placed with or near individual human remains at the time of death or later as part of the death rite or ceremony.

• Pursuant to 25 U.S.C. 3001(2), a relationship of shared group identity cannot be reasonably traced between the Native American human remains and associated funerary objects and any present-day Indian Tribe.

• Treaties, Acts of Congress, or Executive Orders, indicate that the land from which the Native American human remains and associated funerary objects were removed is the aboriginal land of the Absentee-Shawnee Tribe of Indians of Oklahoma; Cayuga Nation; Cherokee Nation; Chickahominy Indian Tribe; Chickahominy Indian Tribe—Eastern Division; Delaware Nation, Oklahoma; Delaware Tribe of Indians; Eastern Band of Cherokee Indians; Eastern Shawnee Tribe of Oklahoma; Monacan Indian Nation; Nansemond Indian Tribe; Oneida Nation (previously listed as the Oneida Tribe of Indians of Wisconsin); Oneida Indian Nation (previously listed as the Oneida Nation of New York); Onondaga Nation; Pamunkey Indian Tribe; Rappahannock Tribe, Inc.; Saint Regis Mohawk Tribe (previously listed as the St. Regis Band of Mohawk Indians of New York); Seneca Nation of Indians (previously listed as the Seneca Nation of New York); Seneca-Cayuga Nation (previously listed as the Seneca-Cayuga Tribe of Oklahoma); Shawnee Tribe; Stockbridge Munsee Community, Wisconsin; Tonawanda Band of Seneca (previously listed as the Tonawanda Band of Seneca Indians of New York); Tuscarora Nation; United Keetoowah Band of Cherokee Indians in Oklahoma; Upper Mattaponi Tribe; and the Wyandotte Nation.

• Other authoritative government sources indicate that the land from which the Native American human remains and associated funerary objects were removed is the aboriginal land of the Bad River Band of Lake Superior Tribe of Chippewa Indians of the Bad River Reservation, Wisconsin; Bay Mills Indian Community, Michigan; Catawba Indian Nation (aka Catawba Tribe of South Carolina); Cheyenne River Sioux Tribe of the Cheyenne River Sioux Reservation, South Dakota; Chippewa Cree Indians of the Rocky Boy's Reservation, Montana (previously listed as the Chippewa-Cree Indians of the Rocky Boy's Reservation, Montana); Grand Traverse Band of Ottawa and Chippewa Indians, Michigan; Kaw Nation, Oklahoma; Keweenaw Bay Indian Community, Michigan; Lac Courte Oreilles Band of Lake Superior Chippewa Indians of Wisconsin; Lac du Flambeau Band of Lake Superior Chippewa Indians of the Lac du Flambeau Reservation of Wisconsin; Lac Vieux Desert Band of Lake Superior Chippewa Indians of Michigan; Minnesota Chippewa Tribe, Minnesota (Six component reservations: Bois Forte Band (Nett Lake); Fond du Lac Band; Grand Portage Band; Leech Lake Band; Mille Lacs Band; White Earth Band); Omaha Tribe of Nebraska; Ponca Tribe of Indians of Oklahoma; Ponca Tribe of Nebraska; Red Cliff Band of Lake Superior Chippewa Indians of Wisconsin; Red Lake Band of Chippewa Indians, Minnesota; Saginaw Chippewa Indian Tribe of Michigan; Saint Regis Mohawk Tribe (previously listed as the St. Regis Band of Mohawk Indians of New York); Sault Ste. Marie Tribe of Chippewa Indians, Michigan; Sokaogon Chippewa Community, Wisconsin; St. Croix Chippewa Indians of Wisconsin; The Osage Nation (previously listed as the Osage Nation); The Quapaw Tribe of Indians; Tunica-Biloxi Indian Tribe; and the Turtle Mountain Band of Chippewa Indians of North Dakota.

• Pursuant to 43 CFR 10.11(c)(1), the disposition of the human remains and associated funerary objects may be to The Consulted and Notified Tribes.

Additional Requestors and Disposition

Representatives of any Indian Tribe or Native Hawaiian organization not identified in this notice that wish to request transfer of control of these human remains and associated funerary objects should submit a written request with information in support of the request to Jendonnae Houdyschell, Associate General Counsel, Marshall University, One John Marshall Drive, Huntington, WV 25755-1060, telephone (304) 696-6704, email houdyschell2@marshall.edu, by December 19, 2018. After that date, if no additional requestors have come forward, transfer of control of the human remains and associated funerary objects to The Consulted and Notified Tribes may proceed.

Marshall University is responsible for notifying The Consulted and Notified Tribes that this notice has been published.

Dated: October 25, 2018.
Melanie O'Brien,
Manager, National NAGPRA Program.

[FR Doc. 2018-25124 Filed 11-16-18; 8:45 am]

BILLING CODE 4312-52-P